DEPARTMENT OF TRANSPORTATION

Office of the Secretary of Transportation

Notice of Availability of Guidance on Accelerated Decisionmaking in Environmental Reviews

AGENCY: Office of the Secretary of Transportation, Department of Transportation (DOT).

ACTION: Notice of availability.

SUMMARY: DOT is announcing the availability of guidance implementing Section 1319 of MAP-21, on Accelerated Decisionmaking in Environmental Reviews. This section of MAP-21 provides for the use of errata sheets on the Draft Environmental Impact Statement, in lieu of a Final EIS (FEIS), when the EIS has limited or factual changes. It also states that the lead agency under NEPA shall issue a combined FEIS and ROD unless circumstances exist to make it impracticable. This eliminates the 30-day wait period between the release of the FEIS and ROD. This guidance builds on the interim guidance that was released by FHWA and FTA in January 2013, but applies to the entire Department. The FHWA and FTA interim guidance is retained as a supplemental appendix specific to those agencies. The guidance is available at http://www.dot.gov/office-policy/transportation-policy/guidance-accelerated-decision-making-environmental-reviews.

FOR FURTHER INFORMATION CONTACT: Rebecca Higgins, Department of Transportation, 1200 New Jersey Ave. SE. W84-318, Washington, DC 20590; email Rebecca.Higgins@dot.gov; telephone (202) 366-7098.

Issue Date: November 3, 2014.
Shoshana Lew, Deputy Assistant Secretary for Policy.

[FR Doc. 2014-26731 Filed 11-12-14; 8:45 am]

BILLING CODE 4910-9X-P